ENVIRONMENTAL PROTECTION AGENCY

[ER-FRL-9020-1]

Environmental Impact Statements; Notice of Availability

AGENCY: Office of Federal Activities, General Information (202) 564-7146 or http://www.epa.gov/compliance/nepa/.

Weekly receipt of Environmental Impact Statements

Filed 03/09/2015 Through 03/13/2015

Pursuant to 40 CFR 1506.9.

Notice

Section 309(a) of the Clean Air Act requires that EPA make public its comments on EISs issued by other Federal agencies. EPA's comment letters on EISs are available at: http://www.epa.gov/compliance/nepa/eisdata.html.

EIS No. 20150063, Draft EIS, NOAA, HI, Hawaiian Islands Humpback Whale National Marine Sanctuary Draft Management Plan, Comment Period Ends: 06/19/2015, Contact: Edward Lindelof 301-713-3125.

EIS No. 20150064, Final EIS, USACE, FL, Port Everglades Harbor Navigation, Review Period Ends: 04/20/2015, Contact: Terri Jordan-Sellers, 904-232-1817.

EIS No. 20150065, Final EIS, FERC, 00, Multi-Project for Hydropower Licenses-Susquehanna River Hydroelectric Projects, Review Period Ends: 04/20/2015, Contact: Emily Carter 202-502-6512.

EIS No. 20150066, Draft Supplement, VA, CA, San Francisco Veterans Affairs Medical Center (SFVAMC) Long Range Development Plan, Comment Period Ends: 05/18/2015, Contact: Robin Flanagan 415-750-2049.

EIS No. 20150067, Draft EIS, BIA, IN, Pokagon Band of Potawatomi Indians Fee-to-Trust Transfer for Tribal Village and Casino City of South Bend, Comment Period Ends: 05/04/2015, Contact: Scott Doig 612-725-4514.

EIS No. 20150068, Draft Supplement, USFS, OR, Wallowa-Whitman National Forest Invasive Plants Treatment Project, Comment Period Ends: 05/04/2015, Contact: Gene Yates 541-523-1290.

EIS No. 20150069, Final EIS, USN, PA, Disposal and Reuse of the Former Naval Air Station Joint Reserve Base (NAS JRB) Willow Grove, Review Period Ends: 04/20/2015, Contact: James Anderson 843-963-4991.

EIS No. 20150070, Revised Final EIS, USFS, ID, Lower Orogrande Project, Review Period Ends: 04/20/2015, Contact: George Harbaugh 208-935-4260.

EIS No. 20150071, Draft EIS, USACE, CA, American River Common Features, Comment Period Ends: 05/04/2015, Contact: Anne Baker 916-557-7277.

EIS No. 20150072, Revised Draft EIS, USACE, LA, Southwest Coastal Louisiana, Comment Period Ends: 05/04/2015, Contact: Dr. William P. Klein, Jr. 504-862-2540.

EIS No. 20150073, Draft EIS, FTA, VA, Virginia Beach Transit Extension, Comment Period Ends: 05/04/2015, Contact: Ryan Long 215-656-7051.

EIS No. 20150074, Final EIS, USFS, OR, Lower Imnaha Rangeland Analysis, Review Period Ends: 04/20/2015, Contact: Kris Stein 541-426-5546.

Dated: March 17, 2015.
Dawn Roberts,
Management Analyst, Office of Federal Activities.

[FR Doc. 2015-06502 Filed 3-19-15; 8:45 am]

BILLING CODE 6560-50-P